NATIONAL AERONAUTICS AND SPACE ADMINISTRATION

Notice of Information Collection

AGENCY: National Aeronautics and Space Administration.

Notice: (14-077).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: Consideration will be given to all comments received within 30 days after from the date of this publication.

ADDRESSES: Interested persons are invited to submit written comments on the proposed information collection to the Office of Information and Regulatory Affairs, Office of Management and Budget, 725 7th Street NW., Washington, DC 20503, Attention: Desk Officer for NASA.

FOR FURTHER INFORMATION CONTACT: Requests for additional information or copies of the information collection instrument(s) and instructions should be directed to Frances Teel, NASA PRA Officer, NASA Headquarters, 300 E Street SW., JF0000, Washington, DC 20546, (202) 358-2225.

SUPPLEMENTARY INFORMATION:

I. Abstract

The KEEP is a job shadowing program designed to provide students with career exploration opportunities under the mentorship of a NASA Kennedy Space Center (KSC) subject matter expert. Participation in the program is limited to students who are U.S. citizens and 16 years or older. Interested students will submit a job shadowing application package, and designation of their top three choices for the job shadowing experience to include but not limited to biomedical, chemistry, computer science, engineering, meteorology, and physics. Interested students will also identify two science, math, or technology teachers associated with their current school of enrollment to submit recommendation forms. Students may request a shadowing opportunity for a period of 1-5 days. This information collection renewal includes updates to the application package for clarity and comprehensibility, and transitions from a paper submittal process to an electronic submittal process.

II. Method of Collection

Electronic.

III. Data

Title: Kennedy Educational Experiences program (KEEP).

OMB Number: 2700-0135.

Type of Review: Extension of currently approved information collection with change.

Affected Public: Individuals.

Estimated Number of Respondents: 60.

Estimated Total Annual Burden Hours: 30.6.

Estimated Total Annual Cost to Respondents: $0.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Frances Teel,
NASA PRA Clearance Officer.

[FR Doc. 2014-18790 Filed 8-7-14; 8:45 am]

BILLING CODE 7510-13-P